DEPARTMENT OF COMMERCE

National Oceanic and Atmospheric Administration

RIN 0648-XC140

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held August 20-23, 2012.

ADDRESSES: The meetings will be held at the Astor Crowne Plaza, 739 Canal Street, New Orleans, LA 70130; telephone: (504) 962-0500.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Committees

Monday, August 20, 2012

9 a.m.-11 a.m.—New Council Member Orientation.

1 p.m.-2:30 p.m.—The Ad Hoc Restoration Committee will receive presentations.

2:30 p.m.-4:30 p.m.—The Data Collection Committee will discuss the Final Generic Amendment—Dealer Permits/Electronic Logbook Reporting Requirements; discuss Electronic Report for Headboats and for the For-Hire Industry.

4:30 p.m.-5 p.m.—The Shrimp Management Committee will review a White Paper on Funding Options for the Electronic Logbook (ELB) Program; and discuss Exempted Fishing Permits related to Shrimp (if any).

5 p.m.-5:30 p.m.—The Law Enforcement Committee will receive a report from the Law Enforcement Advisory Panel Meeting.

5:30 p.m.-6 p.m.—The Budget/Personnel Committee will discuss the Executive Director's selection process.

—Recess—

Immediately following committee recess NOAA Fisheries will hold a workshop considering administrative changes to the Individual Fishing Quota (IFQ) Program. This workshop will be held in the Council's meeting room.

Tuesday, August 21, 2012

8:30 a.m.-11:30 a.m. and 12:30 p.m.-5:30 p.m.—The Reef Fish Management Committee will receive a presentation by Louisiana DWF on the State Boundary Extension and Pilot Program; review a Scoping Document for Amendment 28—Sector Allocations; discuss an Options Papers for a Framework Action on Vermilion Snapper Annual Catch Limit; review comments on Amendment 33—Reef Fish Limited Access Privilege Program; consider a Public Hearing Draft for Amendment 37—Gray Triggerfish Rebuilding Plan; discuss the Final Amendment 38—Revise Post-Season Recreational Accountability Measures for Shallow-Water Grouper and Revision to the Generic Framework Procedure; review the Public Hearing Draft of a Framework Action for 2013 Gag Season, Split Season, & Elimination of February-March Shallow-Water Group Closure; discuss concerns about Amendment 35—the Rebuilding Plan for Greater Amberjack; review other Reef Fish Advisory Panel comments (if any); discuss the status of actions submitted under the Abbreviated Framework Process; and discuss Exempted Fishing Permits related to Reef Fish (if any).

—Recess—

Immediately following the Committee Recess will be the Informal Question & Answer Session on Gulf of Mexico Fishery Management Issues.

Wednesday, August 22, 2012

8:30 a.m.-9:30 a.m.—Closed Session—Full Council to discuss personnel matters.

9:30 a.m.-10:30 a.m.—The Joint Artificial Reef/Habitat Committees will review a Scoping Document for Essential Fish Habitat (EFH) Amendment 4 Designating Petroleum Platforms and Artificial Reefs as Essential Fish Habitat.

—Recess—

Council

Wednesday, August 22, 2012

10:30 a.m.—The Council meeting will begin with a Call to Order and Introductions.

10:40 a.m.-10:45 a.m.—The Council will induct the New Council Members.

10:45 a.m.-10:55 a.m.—The Council will review the agenda and approve the minutes.

10:55 a.m.-11 a.m.—The Council will review the Action Schedule.

11 a.m.-11:45 a.m.—The Council will review Committee Reports from the Ad Hoc Restoration Committee, the Shrimp Management Committee, the Law Enforcement Committee, and the Budget/Personnel Committee.

1 p.m.-1:15 p.m.—The Council will review Exempted Fishing Permits (EFP), if any.

1:15 p.m.-5:30 p.m.—The Council will receive public testimony on the Final Reef Fish Amendment 38—Revise Post-Season Recreational Accountability Measures for Shallow-Water Grouper & Revision to the Generic Framework Procedure; the Final Generic Amendment for Dealer Permits and Electronic Reporting; Amendment 33 for Adding Additional Reef Fish to the Limited Access Privilege Program; and Exempted Fishing Permits (EFPs), if any. The Council will also hold an open public comment period regarding any other fishery issues or concerns. People wishing to speak before the Council should complete a public comment card prior to the comment period.

Thursday, August 23, 2012

8:30 a.m.-8:45 a.m.—The Council will vote on Exempted Fishing Permits (if any).

8:45 a.m.-3:45 p.m.—The Council will review and discuss reports from committee meetings as follows: Reef Fish, Data Collection, Mackerel and Joint Artificial Reef/Habitat.

4 p.m.-4:15 p.m.—Other Business items will follow.

4:15 p.m.-4:30 p.m.—The Council will hold an Election of Chair and Vice-Chair.

The Council will conclude its meeting at approximately 4:30 p.m.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency.

The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: July 31, 2012.
Tracey L. Thompson
Acting Deputy Director, Office of Sustainable Fisheries, National Marine Fisheries Service.

[FR Doc. 2012-19051 Filed 8-3-12; 8:45 am]

BILLING CODE 3510-22-P